DEPARTMENT OF TRANSPORTATION

Federal Aviation Administration

14 CFR Part 71

[Docket No. FAA-2019-0206; Airspace Docket No. 19-ASO-6]

RIN 2120-AA66

Amendment of Class E Airspace; Monroe, GA

AGENCY: Federal Aviation Administration (FAA), DOT.

ACTION: Final rule, correction.

SUMMARY: This action corrects a final rule published in the Federal Register on June 7, 2019, amending Class E airspace extending upward from 700 feet or more above the surface in Monroe, GA. The legal description listed the airport name as Monroe-County Airport. The correct name is Monroe-Walton County Airport.

DATES: Effective 0901 UTC, August 15, 2019. The Director of the Federal Register approves this incorporation by reference action under Title 1 Code of Federal Regulations part 51, subject to the annual revision of FAA Order 7400.11 and publication of conforming amendments.

FOR FURTHER INFORMATION CONTACT: John Fornito, Operations Support Group, Eastern Service Center, Federal Aviation Administration, 1701 Columbia Ave., College Park, GA 30337; telephone (404) 305-6364.

SUPPLEMENTARY INFORMATION:

History

The FAA published a final rule in the Federal Register (84 FR 26558, June 7, 2019) for Docket No. FAA-2019-0206 amending Class E airspace extending upward from 700 feet above the surface for Monroe-Walton County Airport, Monroe, GA, due to the decommissioning of the Monroe NDB and cancellation of the NDB approach.

Subsequent to publication, the FAA found that the legal description listed the airport name as Monroe-County Airport. This action corrects the error.

Class E airspace designations are published in paragraph 6005, of FAA Order 7400.11C, dated August 13, 2018, and effective September 15, 2018, which is incorporated by reference in 14 CFR part 71.1. The Class E airspace designations listed in this document will be published subsequently in the Order.

Correction to Final Rule

Accordingly, pursuant to the authority delegated to me, in the Federal Register of June 7, 2019 (84 FR 26558) FR Doc. 2019-0206, Amendment of Class E Airspace; Monroe, GA, is corrected as follows:

§ 71.1 [Amended]

* * * * *

ASO GA E5 Monroe, GA [Corrected]

On page 26559, column 2, line 58, remove “Monroe-County Airport”, and add in its place, “Monroe-Walton County Airport”

Issued in College Park, Georgia, on June 12, 2019.
Matthew Cathcart,
Acting Manager, Operations Support Group, Eastern Service Center, Air Traffic Organization.

[FR Doc. 2019-13288 Filed 6-21-19; 8:45 am]

BILLING CODE 4910-13-P